DEPARTMENT OF HEALTH AND HUMAN SERVICES

Centers for Disease Control and Prevention

CDC/HRSA Advisory Committee on HIV, Viral Hepatitis and STD Prevention and Treatment (CHACHSPT); Amended Notice of Meeting

Notice is hereby given of a change in the meeting of the CDC/HRSA Advisory Committee on HIV, Viral Hepatitis and STD Prevention and Treatment (CHACHSPT); the meeting will be held on May 9, 2018, 8:30 a.m. to 5:00 p.m., EDT and May 10, 2018, 8:30 a.m. to 12:00 p.m., EDT. CDC Corporate Square, Building 8, Conference Room 1-ABC, 8 Corporate Boulevard, Atlanta, Georgia 30329 which was published in the Federal Register on April 2, 2018, Volume 83, Number 63, pages 13986-13987.

The meeting is being amended to add Adobe Connect meeting information https://adobeconnect.cdc.gov/chac/, phone number: 1 (877) 603-4228, participant passcode: 42598858.

The meeting is open to the public.

FOR FURTHER INFORMATION CONTACT: Margie Scott-Cseh, Committee Management Specialist, CDC, 1600 Clifton Road, NE, Mailstop: E-07, Atlanta, Georgia 30333, telephone (404) 639-8317; zkr7@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2018-10111 Filed 5-10-18; 8:45 am]

BILLING CODE 4163-18-P